DEPARTMENT OF TRANSPORTATION

Federal Motor Carrier Safety Administration

[Docket No. FMCSA-2020-0101]

Controlled Substances and Alcohol Use and Testing: DISA Entertainment Compliance Solutions Application For Exemption From the Drug and Alcohol Clearinghouse Pre-Employment Full-Query

AGENCY: Federal Motor Carrier Safety Administration (FMCSA), Department of Transportation (DOT).

ACTION: Notice of final disposition; renewal of exemption.

SUMMARY: FMCSA announces its final decision to renew the exemption granted to DISA Entertainment Compliance Solutions (DECS), formerly known as Motion Picture Compliance Solutions, from the requirement that an employer must not employ a driver who is subject to drug and alcohol testing to perform safety-sensitive functions prior to conducting a full query of the Drug and Alcohol Clearinghouse (Clearinghouse). The exemption renewal allows DECS members that employ commercial driver's license (CDL) holders to conduct a limited query of the Clearinghouse before hiring a driver for a project. If the limited query indicates that information about the driver exists in the Clearinghouse, the driver is not permitted to perform safety-sensitive functions unless and until a full query subsequently shows that the driver is not prohibited from operating a commercial motor vehicle (CMV). FMCSA has analyzed the exemption application and the public comments and has determined that the exemption, subject to the terms and conditions set forth below, is likely to achieve a level of safety that is equivalent to or greater than the level that would be achieved in the absence of the exemption.

DATES: The exemption is effective for the period of May 28, 2025, through May 28, 2030.

FOR FURTHER INFORMATION CONTACT: Pearlie Robinson, Driver and Carrier Operations Division; Office of Carrier, Driver and Vehicle Safety Standards; FMCSA; (202) 366-4225; pearlie.robinson@dot.gov. If you have questions on viewing or submitting material to the docket, contact Dockets Operations, (202) 366-9826.

SUPPLEMENTARY INFORMATION:

I. Public Participation

Viewing Comments and Documents

To view any documents mentioned as being available in the docket, go to https://www.regulations.gov/docket/FMCSA-2020-0101/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315 to grant exemptions from the Federal Motor Carrier Safety Regulations (FMCSRs). FMCSA must publish a notice of each exemption request in the Federal Register (49 CFR 381.315(a)). The Agency must provide the public an opportunity to inspect the information relevant to the application, including the applicant's safety analyses. The Agency must also provide an opportunity for public comment on the request.

The Agency reviews the application, safety analyses, and public comments submitted and determines whether granting the exemption would likely achieve a level of safety equivalent to, or greater than, the level that would be achieved absent such exemption pursuant to the standard set forth in 49 U.S.C. 31315(b)(1). The Agency must publish the decision in the Federal Register (49 CFR 381.315(b)). If granted, the notice will identify the regulatory provision from which the applicant will be exempt and the effective period and will explain all terms and conditions of the exemption (49 CFR 381.315(c)(1)). If the exemption is denied, the notice will explain the reason for the denial (49 CFR 381.315(c)(2)). The exemption may be renewed (49 CFR 381.300(b)).

III. Background

Current Regulatory Requirements

Under 49 CFR 382.701(a)(2), employers of CDL holders cannot employ a driver subject to the testing requirements of 49 CFR part 382 without first conducting a pre-employment full query of the Clearinghouse. A full query allows the employer to see any information that exists about a driver in the Clearinghouse. An employer must obtain the driver's specific consent, provided electronically through the Clearinghouse, prior to the release of detailed information in response to the full query.

A limited query allows an employer to determine whether the Clearinghouse contains any information about the driver but does not release any specific information about the driver. Limited queries require only a driver's general consent, which is obtained and retained outside the Clearinghouse and may be in written or electronic form. Under 49 CFR 382.701(b)(2), an employer may conduct a limited query in lieu of a full query when satisfying the annual query requirement for current driver-employees. However, if the response to a limited query indicates there is information about the driver in the Clearinghouse, the employer must conduct a full query, after obtaining the driver's specific consent, within 24 hours, as required by 49 CFR 382.701(b)(3). If the full query is not conducted within the 24-hour period, or shows that the driver is prohibited from operating a CMV, the employer must not permit the driver to continue to perform safety-sensitive functions.

Applicant's Request

DECS's application for exemption was described in detail in a Federal Register notice published on March 25, 2025, (90 FR 13654) and will not be repeated as the facts have not changed.

IV. Public Comments

The Agency received six comments. Five comments supported granting the exemption and one opposed the exemption. In addition, DECS responded to the comment that opposed the exemption.

Jessica Hammeke commented that the current exemption is very helpful in meeting production schedule demands without sacrificing any safety standards and stated, “Overall, the current exemption has proven to work well with our unique needs and we strongly hope it will be extended.”

Netflix Studios LLC wrote that the exemption plays a pivotal role in making operations more efficient because it “reduces administrative obstacles, enabling faster project turnarounds with a consistent pool of drivers. It ensures that key safety protocols remain intact, by immediately flagging when a full query is run.” Netflix further commented on DECS's safety protocols, stating that its approach “protects workers, audiences, and the general public, supporting the industry's growth and vitality while maintaining its commitment to safety.”

An anonymous commenter described the exemption as critical to the industry and stated, “Granting this exemption would enable DISA [DECS] to continue operating efficiently and effectively without introducing additional administrative hurdles.”

Sony Pictures Entertainment also supported the exemption, writing, “This exemption has helped us meet safety standards efficiently and would benefit our industry to renew the exemption.”

Finally, MAX wrote that the exemption promotes a culture of responsibility and safety and stated, “This exemption allows DISA's [DECS'] Clearinghouse to continue operating in a way that supports these goals. I strongly encourage the renewal of their exemption request.”

AWM Associates, LLC, opposed the exemption primarily on the grounds that DECS did not submit a list of its members or affiliates, which would preclude FMCSA and the public from verifying its safety claims. AWM stated:

I suggest the FMCSA deny DECS's application until DECS provides a list of its members, the size of the consortium, records demonstrating the claims made are accurate, and proof of its success. California has liberal laws in regard to marijuana and the motion picture industry is plagued with substance abuse stories. It's not advisable to take unsubstantiated reports as factual without evidence to support the claims.

DECS responded to AWM's comments and explained that it is not an employment agency but rather a third-party consortium that performs compliance functions on behalf of production houses to help them efficiently hire drivers. Its clients hire many new drivers, but not because of “turnover” in the traditional sense. Drivers qualified by DECS are employed by a motor carrier for specific, short-term projects. At the end of the project, they are terminated and returned to the pool of available drivers. When another opportunity becomes available, driver applicants are fully requalified. DECS states that it has demonstrated its commitment to safety during the current exemption period, and its proprietary database parallels the Clearinghouse by tracking information including, but not limited to, positive test results, SAP documentation, return-to-duty tests, and follow-up tests. DECS asserts that its low positive rate on its random drug testing program demonstrates its commitment to hiring drug-free drivers. DECS reported that in 2024, its positive rate to its random drug testing program was .003 percent. By contrast, the overall positive rate for the truck and bus industries in 2023 as reported by FMCSA was 0.8 percent. DECS touts this is an impressive datapoint, especially given that most drivers in its random pool live and work in California, the first state in the nation to legalize marijuana.

V. FMCSA Decision

FMCSA has evaluated the application and the public comments. FMCSA determined in 2020 that DECS's process for identifying qualified drivers for member employers is uniquely designed to accommodate safety concerns related to drug and alcohol testing violations. The Agency continues to believe that the exemption will not jeopardize safety because the employer and/or their C/TPA must conduct a full query if the limited query shows that information about the driver exists in the Clearinghouse. A driver's specific consent for the full query would be provided electronically in the Clearinghouse as required under the existing regulations. At the same time, DECS will continue operating the database that it established prior to the Clearinghouse, thereby providing further means of identifying qualified drivers. FMCSA concludes that based on DECS's existing processes, under the terms and conditions set forth below, the exemption is likely to achieve a level of safety that is equivalent to, or greater than, the level of safety that would be achieved in the absence of the exemption, in accordance with 49 U.S.C. 31315(b)(1).

VI. Exemption

FMCSA grants DECS an exemption from 49 CFR 382.701(a)(2). Under this exemption, DECS may conduct a limited query of the Clearinghouse before one of its member employers hires a driver for a project, rather than conducting a full pre-employment query. If the limited query indicates that information about the driver exists in the Clearinghouse, the driver is not permitted to perform safety-sensitive functions unless and until a full query subsequently shows that the driver is not prohibited from operating a CMV.

The exemption from the requirements of 49 CFR 382.701(a)(2) is effective from May 28, 2025, through May 28, 2030, 11:59 p.m. local time.

A. Applicability of Exemption

This exemption is applicable to DECS members that employ CDL holders who are subject to the drug and alcohol testing requirements under 49 CFR part 382 while providing transportation services to or from theatrical, commercial, television, or motion picture production sites.

B. Terms and Conditions

1. DECS and its member employers must maintain operation of the DOT Violation Database, as described in the exemption application.

2. DECS, on behalf of its members, must:

a. Obtain the results of a limited query of FMCSA's Clearinghouse for each driver hired to operate a CMV for a member employer if a full query is not practicable.

b. Conduct a full query of FMCSA's Clearinghouse for each driver whose limited query results indicate information about the driver exists in the Clearinghouse, and, in accordance with current regulations, must not permit the driver to perform safety sensitive functions if the results of the full query indicate the driver is prohibited from doing so.

c. Provide FMCSA with a list of the names and USDOT numbers of the motor carriers operating under the exemption to MCPSD@dot.gov annually and upon request.

3. DECS, acting as a C/TPA, must:

a. Request, obtain, and retain limited query consent forms from drivers on behalf of its member employers, in accordance with the regulations.

b. Report drivers' controlled substance and alcohol violations to FMCSA's Clearinghouse, in accordance with the regulations.

c. Conduct full queries for each new driver who has not previously operated for any member employer.

C. Preemption

In accordance with 49 U.S.C. 31315(d), as implemented by 49 CFR 381.600, during the period this exemption is in effect, no State shall enforce any law or regulation applicable to interstate commerce that conflicts with or is inconsistent with this exemption with respect to a firm or person operating under the exemption. States may, but are not required to, adopt the same exemption with respect to operations in intrastate commerce.

VII. Termination

FMCSA does not believe the drivers covered by this exemption will experience any deterioration of their safety record. However, the exemption will be rescinded if: (1) DECS, or the drivers operating under the exemption fail to comply with the terms and conditions of the exemption; (2) the exemption has resulted in a lower level of safety than was maintained before it was granted; or (3) continuation of the exemption would not be consistent with the goals and objects of 49 U.S.C. 31136(e) and 31315(b).

Sue Lawless,
Assistant Administrator.

[FR Doc. 2025-08945 Filed 5-19-25; 8:45 am]

BILLING CODE 4910-EX-P